DEPARTMENT OF DEFENSE

Department of the Army

Availability for Non-Exclusive, Exclusive, or Partially Exclusive Licensing of U.S. Patent Concerning Recombinant DNA Molecules for Producing Terminal Transference-Like Polypeptides

AGENCY: Department of the Army, DOD.

ACTION: Notice.

SUMMARY: In accordance with 37 CFR 404.6 and 404.7, announcement is made of the availability for licensing of U.S. Patent No. 5,037,756 entitled “Recombinant DNA Molecules for Producing Terminal Transference-Like Polypeptides,” issued August 6, 1991. The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention concerns an isolated DNA sequence encoding human terminal deoxynucleotidyl transferase as well as vectors and transformed hosts carrying said DNA sequence.

Luz D. Ortiz,
Army Federal Register Liaison Officer.

[FR Doc. 02-14228 Filed 6-5-02; 8:45 am]

BILLING CODE 3710-08-M